DEPARTMENT OF THE INTERIOR

Bureau of Reclamation and Fish and Wildlife Service

Draft Central Valley Project Improvement Act (CVPIA) Reports: “CVPIA Ten-Year Report” and “10 Years of Progress”

AGENCY: Bureau of Reclamation and Fish and Wildlife Service, Interior.

ACTION: Notice of availability for public comment.

SUMMARY: As required by law, the Secretary is required to submit annually a detailed report to the Congress describing significant actions taken toward achievement of the intent, purposes, and provisions of the CVPIA. The Department of the Interior (Interior) has drafted the “CVPIA Ten-Year Report” and “10 Years of Progress” report to summarize what has been accomplished since passage of the CVPIA, and to inform the reader how well those actions have fulfilled the intent of the Congress and the goals and objectives of the Act.

DATES: Submit written comments on the “Draft CVPIA Ten-Year Report” and the “10 Years of Progress” reports, on or before August 18, 2003.

ADDRESSES: Copies of the “Draft CVPIA Ten-Year Report” and the “10 Years of Progress” reports may be retrieved from the Web site at http://www/mp.usbr.gov/cvpia/index.html. Copies may also be requested by contacting Patricia Rivera by telephone at (916) 978-5194 or by e-mail at privera@mp.usbr.gov, or by writing her at the address below.

Written comments on the “Draft CVPIA Ten-Year Report” and the “10 Years of Progress” reports should be addressed to the Bureau of Reclamation, Attention: Patricia Rivera, MP-120, 2800 Cottage Way, Sacramento, CA 95825.

FOR FURTHER INFORMATION CONTACT: For additional information, please contact Patricia Rivera at (916) 978-5194, or e-mail privera@mp.usbr.gov.

SUPPLEMENTARY INFORMATION: We are inviting the public to comment on Interior's “Draft Ten-Year Report” and “10 Years of Progress” reports. Since enactment of the statute, Interior has submitted detailed reports to the Senate and the House of Representatives describing all significant actions taken and progress toward achievement of the intent, purposes, and provisions of the CVPIA.

Since the passage of CVPIA, Interior, with the assistance of the State of California and the cooperation of many partners, has completed many of the necessary administrative requirements, conducted numerous studies and investigations, implemented hundreds of measures, and has generally made significant progress towards achieving the goals and objectives established by CVPIA. The “CVPIA Ten-Year Report,” and the “10 Years of Progress” reports summarize the actions taken by Interior in the ten fiscal years, 1993-2002, to implement the Act.

Interior seeks public comment on whether the “CVPIA 10-Year Report,” and the “10 Years of Progress” reports are adequate, as identified by section 3408(f) of the Act, with a focus on reporting methodologies and quantification of accomplishments. Additionally, comments are sought regarding future CVPIA implementation actions and a process to better identify when all or portions of the Act are complete.

Our practice is to make comments, including names and home addresses of respondents, available for public review. Individual respondents may request that we withhold their home address from public disclosure, and we will honor such requests to the extent allowed by law. There also may be circumstances in which we would withhold a respondent's identity from public disclosure, as allowed by law. If you wish Interior to withhold your name and/or address, you must state this prominently at the beginning of your comments. We will make all submissions from organizations or businesses, and from individuals identifying themselves as representatives or officials of organizations or businesses, available for public disclosure in their entirety.

Dated: May 9, 2003.
Susan L. Ramos,
Assistant Regional Director, Mid-Pacific Region.

[FR Doc. 03-15450 Filed 6-18-03; 8:45 am]

BILLING CODE 4310-MN-M